DEPARTMENT OF VETERANS AFFAIRS

[OMB Control No. 2900-0766]

Proposed Information Collection (Care Coordination Home Telehealth (CCHT) Patient Satisfaction Survey, VA Form 10-0481); Activity: Comment Request

AGENCY: Veterans Health Administration, Department of Veterans Affairs.

ACTION: Notice.

SUMMARY: The Veterans Health Administration (VHA), Department of Veterans Affairs (VA), is announcing an opportunity for public comment on the proposed collection of certain information by the agency. Under the Paperwork Reduction Act (PRA) of 1995, Federal agencies are required to publish notice in the Federal Register concerning each proposed collection of information, including each extended collection, and allow 60 days for public comment in response to the notice. This notice solicits comments on the information collection required to obtain patient perspective on satisfaction with the CCHT program and messaging devices.

DATES: Written comments and recommendations on the proposed collection of information should be received on or before October 28, 2013.

ADDRESSES: Submit written comments on the collection of information through Federal Docket Management System (FDMS) at www.Regulations.gov; or to Cynthia Harvey-Pryor, Veterans Health Administration (10P7BFP), Department of Veterans Affairs, 810 Vermont Avenue NW., Washington, DC 20420; or email: cynthia.harvey-pryor@va.gov. Please refer to “OMB Control No. 2900-0766” in any correspondence. During the comment period, comments may be viewed online through the FDMS.

FOR FURTHER INFORMATION CONTACT: Cynthia Harvey-Pryor at (202) 461-5870 or fax (202) 495-5397.

SUPPLEMENTARY INFORMATION: Under the PRA of 1995 (Pub. L. 104-13; 44 U.S.C. 3501-3521), Federal agencies must obtain approval from the Office of Management and Budget (OMB) for each collection of information they conduct or sponsor. This request for comment is being made pursuant to Section 3506(c)(2)(A) of the PRA.

With respect to the following collection of information, VHA invites comments on: (1) Whether the proposed collection of information is necessary for the proper performance of VHA's functions, including whether the information will have practical utility; (2) the accuracy of VHA's estimate of the burden of the proposed collection of information; (3) ways to enhance the quality, utility, and clarity of the information to be collected; and (4) ways to minimize the burden of the collection of information on respondents, including through the use of automated collection techniques or the use of other forms of information technology.

Titles: Care Coordination Home Telehealth (CCHT) Patient Satisfaction Survey, VA Form 10-0481.

OMB Control Number: 2900-0766.

Type of Review: Extension of a currently approved collection.

Abstract: Patients enrolled in the CCHT program will receive survey questions through a messaging device located in their home. Patients can select an answer by the use of buttons, a touch screen application or electronically spoken to them through an Interactive Voice Response if they are visually impaired.

Affected Public: Individuals or households.

Estimated Annual Burden: 1640 burden hours.

Estimated Average Burden per Respondent: 1.5 minutes.

Frequency of Response: Quarterly.

Estimated Number of Respondents: 65,600.

Dated: August 26, 2013.
By direction of the Secretary.
Crystal Rennie,
VA Clearance Officer, U.S. Department of Veterans Affairs.

[FR Doc. 2013-21069 Filed 8-28-13; 8:45 am]

BILLING CODE 8320-01-P